DEPARTMENT OF THE TREASURY

Office of the Under Secretary for Domestic Finance; Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Office of the Under Secretary for Domestic Finance of the Department of the Treasury is soliciting comments concerning the record keeping and reporting requirements contained in the final rule governing merchant banking investments that it adopted jointly with the Federal Reserve Board pursuant to the Gramm-Leach-Bliley Act, Public Law 106-102, 113 Stat. 1338 (GLBA).

DATES: Written comments should be received on or before June 11, 2001, to be assured of consideration.

ADDRESSES: Direct all written comments to Merchant Banking Regulation, Office of Financial Institutions Policy, 1500 Pennsylvania Ave., NW., Room SC37, Washington, DC 20220.

FOR FURTHER INFORMATION CONTACT: Edward J. DeMarco, Acting Director, Office of Financial Institutions Policy, (202) 622-2730, or Gary W. Sutton, Senior Banking Counsel, (202) 622-1976.

SUPPLEMENTARY INFORMATION: Title: Risk management, record keeping and reporting policies required to make merchant banking investments.

OMB Number: 1505-0182.

CFR Cite: 12 CFR 1500.6.

Abstract: Section 103 of the GLBA authorizes the Secretary of the Treasury (Treasury) and the Board of Governors of the Federal Reserve System (Board) jointly to adopt regulations implementing the authority of financial holding companies to make merchant banking investments. Pursuant to that rulemaking authority, Treasury and the Board jointly adopted a final rule that imposes certain requirements and restrictions on financial holding companies that make merchant banking investments.

Current Actions: The final rule adopted by Treasury and the Board requires financial holding companies engaged in merchant banking to have and maintain certain policies, procedures, records, and systems to appropriately monitor and manage their merchant banking investments.

Type of Review: Extension.

Affected Public: Financial holding companies.

Estimated Number of Respondents: 450

Estimated Time Per Respondent: 50 hours.

Estimated Total Annual Burden Hours: 22,500 hours.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: April 4, 2001.
Edward J. DeMarco,
Acting Director, Office of Financial Institutions Policy.

[FR Doc. 01-8737 Filed 4-9-01; 8:45 am]

BILLING CODE 4810-25-P